DEPARTMENT OF ENERGY

Federal Energy Regulatory Commission

Combined Notice of Filings #1

Take notice that the Commission received the following electric corporate filings:

Docket Numbers: EC23-66-000.

Applicants: Apple Blossom Wind, LLC, Black Oak Wind, LLC, Boulder Solar II, LLC, Cedar Creek II, LLC, Flat Ridge Interconnection LLC, Fowler Ridge II Wind Farm, LLC, Flat Ridge 3 Wind Energy LLC, Harry Allen Solar Energy LLC, Mehoopany Wind Energy LLC.

Description: Joint Application for Authorization Under Section 203 of the Federal Power Act of Apple Blossom Wind, LLC, et al.

Filed Date: 3/22/23.

Accession Number: 20230322-5182.

Comment Date: 5 p.m. ET 4/12/23.

Take notice that the Commission received the following exempt wholesale generator filings:

Docket Numbers: EG23-105-000.

Applicants: Partin Solar LLC.

Description: Partin Solar LLC submits Notice of Self-Certification of Exempt Wholesale Generator Status.

Filed Date: 3/22/23.

Accession Number: 20230322-5171.

Comment Date: 5 p.m. ET 4/12/23.

Docket Numbers: EG23-106-000.

Applicants: Desert Peak Energy Center, LLC.

Description: Desert Peak Energy Center, LLC submits Notice of Self-Certification of Exempt Wholesale Generator Status.

Filed Date: 3/22/23.

Accession Number: 20230322-5172.

Comment Date: 5 p.m. ET 4/12/23.

Docket Numbers: EG23-107-000.

Applicants: Desert Peak Energy Storage I, LLC.

Description: Desert Peak Energy Storage I, LLC submits Notice of Self-Certification of Exempt Wholesale Generator Status.

Filed Date: 3/22/23.

Accession Number: 20230322-5173.

Comment Date: 5 p.m. ET 4/12/23.

Docket Numbers: EG23-108-000.

Applicants: Desert Peak Energy Storage II, LLC.

Description: Desert Peak Energy Storage II, LLC submits Notice of Self-Certification of Exempt Wholesale Generator Status.

Filed Date: 3/22/23.

Accession Number: 20230322-5174.

Comment Date: 5 p.m. ET 4/12/23.

Take notice that the Commission received the following electric rate filings:

Docket Numbers: ER23-72-002.

Applicants: Omaha Public Power District, Southwest Power Pool, Inc.

Description: Tariff Amendment: Omaha Public Power District submits tariff filing per 35.17(b): Deficiency Response -Omaha Public Power Dist Revisions to Formula Rate Protocols to be effective 1/1/2024.

Filed Date: 3/23/23.

Accession Number: 20230323-5061.

Comment Date: 5 p.m. ET 4/13/23.

Docket Numbers: ER23-366-002

Applicants: PJM Interconnection, L.L.C.

Description: Tariff Amendment: Revised ISA, SA No. 2782; Queue No. W3-002 Supplemental Filing to be effective 11/7/2020.

Filed Date: 3/23/23.

Accession Number: 20230323-5091.

Comment Date: 5 p.m. ET 4/13/23.

Docket Numbers: ER23-938-001.

Applicants: Southwest Power Pool, Inc.

Description: Tariff Amendment: 3334R2 Associated Electric Cooperative NITSA and NOA to be effective 4/1/2023.

Filed Date: 3/23/23.

Accession Number: 20230323-5110.

Comment Date: 5 p.m. ET 4/13/23.

Docket Numbers: ER23-1440-000.

Applicants: PacifiCorp.

Description: Notice of Termination Filing of PacifiCorp.

Filed Date: 3/21/23.

Accession Number: 20230321-5181.

Comment Date: 5 p.m. ET 4/11/23.

Docket Numbers: ER23-1441-000.

Applicants: PJM Interconnection, L.L.C.

Description: § 205(d) Rate Filing: Original NSA, Service Agreement No. 6837; Queue No. AE1-104 to be effective 2/24/2023.

Filed Date: 3/23/23.

Accession Number: 20230323-5000.

Comment Date: 5 p.m. ET 4/13/23.

Docket Numbers: ER23-1442-000.

Applicants: Tucson Electric Power Company.

Description: § 205(d) Rate Filing: TEP EIM Errata Filing to be effective 5/3/2022.

Filed Date: 3/23/23.

Accession Number: 20230323-5050.

Comment Date: 5 p.m. ET 4/13/23.

Docket Numbers: ER23-1443-000.

Applicants: R-WS Antelope Valley Gen-Tie, LLC.

Description: § 205(d) Rate Filing: Large Generator Interconnection Agreement Co-Tenancy Agreement to be effective 3/24/2023.

Filed Date: 3/23/23.

Accession Number: 20230323-5053.

Comment Date: 5 p.m. ET 4/13/23.

Docket Numbers: ER23-1444-000.

Applicants: Midcontinent Independent System Operator, Inc.

Description: § 205(d) Rate Filing: 2023-03-23_Attachment L Virtual MWh Deadline Revision to be effective 5/23/2023.

Filed Date: 3/23/23.

Accession Number: 20230323-5057.

Comment Date: 5 p.m. ET 4/13/23.

Docket Numbers: ER23-1445-000.

Applicants: Hobnail Solar, LLC.

Description: Baseline eTariff Filing: Application for Market Based Rate to be effective 6/9/2023.

Filed Date: 3/23/23.

Accession Number: 20230323-5058.

Comment Date: 5 p.m. ET 4/13/23.

Docket Numbers: ER23-1446-000.

Applicants: New York Independent System Operator, Inc.

Description: § 205(d) Rate Filing: NYISO 205: Amended LGIA LIPA Calverton Solar Project SA2709 to be effective 3/9/2023.

Filed Date: 3/23/23.

Accession Number: 20230323-5072.

Comment Date: 5 p.m. ET 4/13/23.

Docket Numbers: ER23-1447-000.

Applicants: PJM Interconnection, L.L.C.

Description: § 205(d) Rate Filing: Original ISA, SA No. 6834; Queue No. AE2-113 to be effective 2/21/2023.

Filed Date: 3/23/23.

Accession Number: 20230323-5101.

Comment Date: 5 p.m. ET 4/13/23.

Docket Numbers: ER23-1448-000.

Applicants: Evergy Kansas Central, Inc.

Description: Tariff Amendment: Notice of Cancellation of Rate Schedule No. 331, Kansas Power Pool to be effective 12/31/2022.

Filed Date: 3/23/23.

Accession Number: 20230323-5124.

Comment Date: 5 p.m. ET 4/13/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 23, 2023.
Debbie-Anne A. Reese,
Deputy Secretary.

[FR Doc. 2023-06510 Filed 3-28-23; 8:45 am]

BILLING CODE 6717-01-P